DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer at (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Projects for Assistance in Transition From Homelessness (PATH) Program Annual Report (OMB No. 0930-0205)—Revision

The Center for Mental Health Services awards grants each fiscal year to each of the states, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act). Section 522 of the PHS Act requires that the grantee states and territories must expend their payments under the Act solely for making grants to political subdivisions of the state, and to nonprofit private entities (including community-based veterans' organizations and other community organizations) for the purpose of providing services specified in the Act. Available funding is allotted in accordance with the formula provision of section 524 of the PHS Act.

This submission is for a revision of the current approval of the annual grantee reporting requirements. Section 528 of the PHS Act specifies that not later than January 31 of each fiscal year, a funded entity will prepare and submit a report in such form and containing such information as is determined necessary for securing a record and description of the purposes for which amounts received under section 521 were expended during the preceding fiscal year and of the recipients of such amounts and determining whether such amounts were expended in accordance with statutory provisions.

The proposed changes to the PATH Annual Report are as follows:

1. Format

To create a PATH report that is easier to read and questions that are easier to understand, language has been made more concise and questions have been renumbered.

2. Homeless Management Information Systems (HMIS) Data Integration

All data elements align with the 2014 HMIS Data Standards and can be extracted from HMIS.

3. Staff Training

An element has been added to the Budget section to collect information about the number of trainings provided by PATH-funded staff.

4. Number of Persons Served This Reporting Period

To decrease reporting burden and improve data quality, several revisions were made to the collection of information about persons outreached and persons enrolled. Data elements were updated to more clearly describe the data to be reported and reduce confusion and potential for misinterpretation. Information about persons outreached has been divided into two elements to collect specific information about the location of the outreach contact (street outreach or service setting).

5. Services Provided

To improve data quality, several service category labels have been updated to more accurately reflect the type of service to be reported. The “Screening and Assessment” category has also been divided into two separate categories to capture specific information about screenings and clinical assessments provided by PATH staff. The “Total number of times this service was provided” column has been removed to reduce reporting burden.

6. Referrals Provided

To improve data quality, several referral category labels have been updated to more accurately reflect the type of referral to be reported. The “Total number of times this type of referral was provided” column has been removed to reduce reporting burden.

7. Outcomes

Elements collecting information regarding PATH program outcomes have been added. The PATH program's transition to using local HMIS to collect PATH client data allows data on client outcomes related to the PATH program to be more easily collected and reported.

8. Demographics

Response categories for demographic data elements have been updated to fully align with the 2014 HMIS Data Standards. An element to gather information about PATH clients' connection to the SSI/SSDI Outreach, Access, and Recovery program (SOAR) has also been added.

To decrease reporting burden and improve the outreach and engagement process, demographic information for “Persons contacted” is no longer required. Providers are encouraged to gather information and build client records as early in the engagement process as possible. All demographic information should be collected by the point of PATH enrollment.

9. Definitions

Definitions for PATH terms have been updated to streamline definitions and increase reliability of data reporting.

The estimated annual burden for these reporting requirements is summarized in the table below.

Respondents | Number of respondents | Responses per respondent | Burden per response (hours) | Total burden
States | 56 | 1 | 20 | 1,120
Local provider agencies | 492 | 1 | 20 | 9,840
Total | 548 |  |  | 10,960

Send comments to Summer King, SAMHSA Reports Clearance Officer, Room 2-1057, One Choke Cherry Road, Rockville, MD 20857 OR email her a copy at summer.king@samhsa.hhs.gov. Written comments should be received by July 17, 2015.

Summer King,
Statistician.

[FR Doc. 2015-11894 Filed 5-15-15; 8:45 am]

BILLING CODE 4162-20-P